DEPARTMENT OF THE TREASURY

Office of Foreign Assets Control

31 CFR Part 548

Publication of a Belarus Sanctions Regulations Web General License

AGENCY: Office of Foreign Assets Control, Treasury.

ACTION: Publication of a web general license.

SUMMARY: The Department of the Treasury's Office of Foreign Assets Control (OFAC) is publishing a general license (GL) issued pursuant to the Belarus Sanctions Regulations: GL 13. This GL was previously made available on OFAC's website.

DATES: GL 13 was issued on December 15, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On December 15, 2025, OFAC issued GL 13 to authorize certain transactions otherwise prohibited by the Belarus Sanctions Regulations, 31 CFR part 548. GL 13 was made available on OFAC's website (https://ofac.treasury.gov) when it was issued. The text of this GL is provided below.

OFFICE OF FOREIGN ASSETS CONTROL

Belarus Sanctions Regulations

31 CFR Part 548

GENERAL LICENSE NO. 13

Authorizing Transactions Involving Joint Stock Company Belarusian Potash Company, Agrorozkvit LLC, and Belaruskali OAO

(a) Except as provided in paragraph (b) of this general license, all transactions prohibited by the Belarus Sanctions Regulations, 31 CFR part 548 (BSR), involving the following entities are authorized:

(1) Joint Stock Company Belarusian Potash Company;

(2) Agrorozkvit LLC;

(3) Belaruskali OAO; or

(4) Any entity in which one or more of the above persons own, directly or indirectly, individually or in the aggregate, a 50 percent or greater interest.

(b) This general license does not authorize:

(1) The unblocking of any property blocked pursuant to any part of 31 CFR chapter V; or

(2) Any transactions otherwise prohibited by the BSR, including transactions involving the property or interests in property of any person blocked pursuant to the BSR other than the blocked persons described in paragraph (a) of this general license, unless separately authorized.

Bradley T. Smith,

Director, Office of Foreign Assets Control.

Dated: December 15, 2025.
Bradley T. Smith,
Director, Office of Foreign Assets Control.

Editorial Note: This document was received by the Office of the Federal Register on February 26, 2026.

[FR Doc. 2026-04092 Filed 2-27-26; 8:45 am]

BILLING CODE P